DEPARTMENT OF COMMERCE

Foreign-Trade Zones Board

[S-69-2013]

Foreign-Trade Zone 247—Erie, Pennsylvania; Application for Subzone; GE Transportation, Lawrence Park Township, Pennsylvania

An application has been submitted to the Foreign-Trade Zones Board (the Board) by the Erie-Western Pennsylvania Port Authority, grantee of FTZ 247, requesting special-purpose subzone status for the facility of GE Transportation, located in Lawrence Park Township, Pennsylvania. The application was submitted pursuant to the provisions of the Foreign-Trade Zones Act, as amended (19 U.S.C. 81a-81u), and the regulations of the Board (15 CFR part 400). It was formally docketed on May 16, 2013.

The proposed subzone (350 acres) is located at 2901 East Lake Road, Lawrence Park Township, Erie County, Pennsylvania. No production activity has been requested at this time, but the company has indicated that a notification of proposed production activity will be submitted. Any such notifications will be published separately for public comment. The proposed subzone would be subject to the existing activation limit of FTZ 247.

In accordance with the Board's regulations, Elizabeth Whiteman of the FTZ Staff is designated examiner to review the application and make recommendations to the Executive Secretary.

Public comment is invited from interested parties. Submissions shall be addressed to the Board's Executive Secretary at the address below. The closing period for their receipt is July 1, 2013. Rebuttal comments in response to material submitted during the foregoing period may be submitted during the subsequent 15-day period to July 16, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: May 16, 2013.
Andrew McGilvray,
Executive Secretary.

[FR Doc. 2013-12218 Filed 5-21-13; 8:45 am]

BILLING CODE 3510-DS-P